OFFICE OF SCIENCE AND TECHNOLOGY POLICY

Framing the National Nature Assessment

AGENCY: Office of Science and Technology Policy (OSTP).

ACTION: Notice of request for information.

SUMMARY: Nature is important in its own right, and provides value to the lives of all Americans. To increase our knowledge of nature in the United States and its links to global change, the Office of Science and Technology Policy (OSTP), on behalf of the United States Global Change Research Program (USGCRP), requests input from the public to help inform the framing, development, and eventual use of the first National Nature Assessment (NNA). USGCRP committed to conducting a National Nature Assessment on April 8, 2022, under the authority of the Global Change Research Act of 1990. President Biden reinforced and elevated the importance of this assessment to a matter of national policy by calling for it in Executive Order 14072 (https://www.federalregister.gov/documents/2022/04/27/2022-09138/strengthening-the-nations-forests-communities-and-local-economies) on Strengthening the Nation's Forests, Communities and Local Economies (April 22, 2022). This request for information (RFI) will inform USGCRP as it develops this first-of-its-kind assessment.

DATES: Responses are due by March 31, 2023. Responses will be considered throughout the comment period, as they are received.

ADDRESSES: Comments should be submitted electronically via: https://contribute.globalchange.gov/.

Instructions: Response to this RFI is voluntary. Respondents need not reply to all questions listed. Each individual or institution is requested to submit only one response. Please identify your answers by responding to a specific question or topic. Respondents may answer as many or as few questions as they wish. Comments of seven pages or fewer (3,500 words or equivalent) are strongly recommended. Links to comparable-scale multi-media input maybe submitted for consideration.

USGCRP seeks to create a National Nature Assessment that is broadly relevant and provides useful information on nature to all people living or residing in the United States. In that spirit, we encourage all members of the public who are interested in this initiative to submit their comments. Those interested may include any member of the public of any age, culture, background, level of education or career stage. There may also be interested organizations, such as Tribal Nations or Indigenous Peoples, scientific research or practitioner organizations, any state, local or territorial governments, any non-profit organizations, any private companies, any philanthropic organizations, and any others. USGCRP is interested in personal narrative and experience; Indigenous Knowledge; local knowledge and lived experience; and technical, legal, and scientific content or research from any discipline.

USGCRP will not provide direct responses to comments. This RFI is not accepting applications for financial assistance or financial incentives. Comments submitted in response to this notice may be subject to public release under the Freedom of Information Act (FOIA). Responses to this RFI may be posted without change online. USGCRP therefore requests that no proprietary information, copyrighted information, or personally identifiable information be submitted in response to this RFI. Please note that the United States Government will not pay for response preparation, or for the use of any information contained in a response. In accordance with FAR 15-202(3), responses to this notice are not offers and cannot be accepted by the U.S. Government to form a binding contract.

FOR FURTHER INFORMATION CONTACT: Chris Avery, (202) 419-3474, cavery@usgcrp.gov, U.S. Global Change Research Program. Individuals who use telecommunication devices for the deaf and hard of hearing (TDD) may call the Federal Relay Service (FRS) at 1-800-877-8339, 24 hours a day, every day of the year, including holidays.

SUPPLEMENTARY INFORMATION: USGCRP coordinates research across 13 Federal agencies to understand the human-induced and natural processes that influence the total Earth system—the atmosphere, land, water, ecosystems, and people. USGCRP was established by Presidential Initiative in 1989 and mandated by Congress in the Global Change Research Act (GCRA) of 1990 (Sec 104, Pub. L. 101-606; https://www.globalchange.gov/about/legal-mandate).

USGCRP has stated that the National Nature Assessment (NNA) is an assessment of nature in the United States. Existing reports and assessments provide partial views of changes in nature and how they affect the nation, but the United States lacks comprehensive knowledge on these major aspects of global change. The NNA will assess the status, observed trends, and future projections of America's lands, waters, wildlife, biodiversity and ecosystems and the benefits they provide, including connections to the economy, public health, equity, climate mitigation and adaptation, and national security. The NNA considers nature in US states, marine areas (exclusive economic zone), territories, Native or Indigenous lands and waters, and other affiliated areas (as appropriate), as well as its significant interactions with global changes. In the creation of the NNA, USGCRP is also abiding by the following principles, to create an assessment that is:

• Authoritative, credible, timely, and concise

• Fully compliant with relevant laws and policies

• Policy relevant but not policy prescriptive

• Transparent, accurate and reproducible with well-documented methods

• Inclusive

• Use-inspired

• Accessible to the widest possible audience

We invite members of the public to share perspectives on how the scope and principles set forth should be addressed in the NNA. USGCRP seeks responses to any or all of the questions that follow.

Questions To Inform Development of a Use-Inspired Assessment

USGCRP will follow the principles of creating a use-inspired NNA, where the design is driven by the potential uses of the final products. In order to create such an assessment, USGCRP needs to understand the potential users of the NNA, what uses they could have for the NNA, and how they can most easily and effectively engage with the knowledge developed, synthesized, and communicated by the NNA. USGCRP seeks responses to any or all of the following questions to gain better understanding of how to create a use-inspired NNA:

1. Assessments can be tailored to inform a wide range of audiences. For example, assessments can be created for use by the general public, government decision makers (at any scale from Federal to state to local, territorial or Tribal), researchers and practitioners, non-profit organizations, private sector companies, individuals, different generational groups, or other audiences. Who are the key audiences for, or users of, the NNA? Who should find the information that the NNA provides useful?

2. USGCRP understands that creation of a use-inspired assessment will require ongoing engagement with the potential users of the NNA. This RFI is one of the first ways USGCRP is reaching out to potential users.

a. What engagement processes should be used so that the audiences identified above are best able to participate in the development process?

b. What forms or formats of engagement (e.g., in-person town hall meetings, virtual conversations, community workshops, social media events, calls for stories or art) are likely to help USGCRP meet its principle of inclusivity and best inform the assessment?

3. Use-inspired assessments are tailored to their intended use.

a. What decisions should the NNA help inform, and what information is needed for those decisions?

b. What needs can the assessment fill, and how should information be provided to fill them?

c. What questions should the NNA answer? What do you wish you knew about nature in the United States?

4. The scope of the NNA includes assessment of the observed trends and future projections of nature and the benefits it provides to people. Given this:

a. How far back in time should the NNA explore observed trends, and why?

b. What kinds of questions about the future should the NNA aim to answer? How far into the future should projections extend, and why?

c. What types of future scenarios would best support the recommended uses (e.g. quantitative time series, directional changes, stories)?

5. Assessments can create a wide variety of products that help users access, understand and use the information that is provided. These can include large written reports, a series of shorter reports, online interactive settings, artistic expressions (paintings, poems, etc.), infographics, virtual or augmented reality tools, phone or tablet apps, presentations, data resources, films, podcasts, social media, events, entertainment products, and many others.

a. What kinds of products can best communicate the findings of the NNA?

b. How would you like to use the findings of the NNA?

6. Past assessments have used various approaches to organizing findings. Some give information for each region of the country (e.g., findings for the southeast, northwest, southwest, the Arctic). Others give information for different types of ecosystems (e.g., kelp forest, desert, temperate forest) or levels of ecological organization (e.g., species, communities, ecosystems). Still others organize findings for specific audiences (e.g., government, businesses, land owners, resource users like fishers, hunters, hikers), or specific decision-making contexts (e.g., NEPA requirements, corporate ESG reporting, financial risk disclosure, research prioritization). The NNA is tasked to assess the connections between nature and the benefits it provides, and so findings could also be organized by benefit (e.g., public health, equity, economy) or by sector (e.g., agriculture, transportation, health, housing, energy).

a. Given that the scope of the NNA is quite broad, how should information in the assessment be organized?

b. What format would best match the ways you think the NNA should be used?

Questions To Inform a Definition of Nature

The guidance provided by USGCRP asks the NNA to assess lands, waters, wildlife, biodiversity, and ecosystems and the benefits they provide, including connections to the economy, public health, equity, climate mitigation and adaptation, and national security. USGCRP is aware that there are many different definitions of nature and many ways of coming to know and understand nature. With this in mind, USGCRP seeks responses to the following questions:

7. What does nature mean to you?

8. What should the definition of nature used in the NNA be sure to address or include, and why?

9. What should the definition of nature used in the NNA be sure to leave out or exclude, and why?

Questions To Inform Identification of Relevant Knowledge Sources

10. Indigenous Knowledge (IK) is an important body of knowledge that contributes to the scientific, technical, social, and economic advancements of the United States and to our collective understanding of the natural world. Responsive to this recognition:

a. How can USGCRP best engage with Tribes and Indigenous Peoples in the development of the NNA?

b. How should IK be woven together with other forms of knowing in the NNA?

11. There are many ongoing assessments, and existing quantitative and qualitative data and knowledge that relate to the many aspects of nature and the wide range of benefits the NNA is charged to assess. These sources may be generated by government agencies, Tribes and Indigenous Peoples, colleges and universities, local communities, non-profit organizations, the international community, the private sector, and others.

a. What existing assessments and knowledge efforts should the NNA draw from to provide a comprehensive view of the status, observed trends and future projections of nature and its benefits in the United States, and why?

b. How can USGCRP best engage with local communities to incorporate their lived experiences into the NNA?

c. What existing datasets, knowledge sources, information or stories should USGCRP draw from in creating the NNA, and why?

d. How should the NNA be designed to add value beyond what these existing efforts and sources already provide?

Public Engagement Plans

Opportunities for public engagement to inform NNA will be presented throughout its development. The following planned public engagement schedule is presented to notify the public of these coming opportunities. The specific timing of these engagement efforts will depend upon feedback from this RFI and how the NNA is developed based on that information. However, the NNA currently plans the following public engagement plans at a minimum, regardless of what other engagement opportunities may become available in the future.

• Public comment on NNA draft prospectus

• Public engagement workshops and webinars

• Public calls for authors

• Public comment on drafts of assessment products, as appropriate

• Peer review of assessment products, as appropriate

All are invited to participate in these public engagement opportunities to ensure robust public input to NNA. Specific dates and locations for all engagements will be provided on www.globalchange.gov/notices as they are determined. Members of the public may also sign up to receive updates through USGCRP's bimonthly newsletter at www.globalchange.gov/newsletter-signup.

Dated: October 26, 2022.
Stacy Murphy,
Operations Manager.

[FR Doc. 2022-23593 Filed 10-28-22; 8:45 am]

BILLING CODE 3270-F1-P